ENVIRONMENTAL PROTECTION AGENCY

[ER-FRL-9037-8]

Environmental Impact Statements; Notice of Availability

Responsible Agency: Office of Federal Activities, General Information 202-564-7156 or http://www2.epa.gov/nepa.

Weekly receipt of Environmental Impact Statements

Filed 02/12/2018 through 02/16/2018

Pursuant to 40 CFR 1506.9.

Notice

Section 309(a) of the Clean Air Act requires that EPA make public its comments on EISs issued by other Federal agencies. EPA's comment letters on EISs are available at: https://cdxnodengn.epa.gov/cdx-nepa-public/action/eis/search

EIS No. 20180021, Final, USFWS, CA, City of San Diego Vernal Pool Habitat Conservation Plan EIS/EIR, Review Period Ends: 03/26/2018, Contact: Susan Wynn, 760-431-9440

EIS No. 20180022, Final, USFS, BLM, USFWS, ID, Coeur d' Alene Basin Restoration Plan and Environmental Impact Statement, Review Period Ends: 03/26/2018, Contact: Jeffrey Johnson, 208-765-7442

EIS No. 20180023, Final, USAF, AK, Proposal to Improve F-22 Operational Efficiency at Joint Base Elmendorf-Richardson, Alaska, Review Period Ends: 03/26/2018, Contact: Major Matthew Smith, 907-552-8151

EIS No. 20180024, Draft, USFS, OR, East Hills Project DRAFT Environmental Impact Statement, Comment Period Ends: 04/09/2018, Contact: Jody Perozzi, 541-353-2723

Amended Notices

EIS No. 20170243, Draft, DOT, TX Dallas to Houston High Speed Rail DRAFT Environmental Impact Statement, Comment Period Ends: 02/20/2018, Contact: Kevin Wright (202) 493-0845, Revision to FR Notice Published 12/22/2017; Correction to Extend Comment Period from 02/20/2018 to 03/09/2018

Dated: February 20, 2018.
Kelly Knight,
Director, NEPA Compliance Division, Office of Federal Activities.

[FR Doc. 2018-03757 Filed 2-22-18; 8:45 am]

BILLING CODE 6560-50-P